NUCLEAR REGULATORY COMMISSION

[Docket No. 50-271]

Amergen Vermont, LLC and Vermont Yankee Nuclear Power Station; Correction to Notice of Consideration of Approval of Proposed Direct and Indirect License Transfers and Opportunity for a Hearing

On August 31, 2000, the Federal Register published a notice of consideration of issuance of an order under 10 CFR 50.80 approving the indirect transfer of Facility Operating License No. DPR-28 for Vermont Yankee Nuclear Power Station (Vermont Yankee) currently held by Vermont Yankee Nuclear Power Corporation, as the owner and licensed operator.

On page 53038, column 2, the following sentence is corrected to read: “By September 20, 2000, any person whose interest may be affected by the Commission's action on the application may request a hearing and, if not the applicant, may petition for leave to intervene in a hearing proceeding on the Commission's action.”

Dated at Rockville, Maryland, this 8th day of September 2000.
For the Nuclear Regulatory Commission.
Donna M. Skay,
Project Manager, Section Project Directorate III, Division of Licensing Project Management, Office of Nuclear Reactor Regulation.

[FR Doc. 00-23608 Filed 9-13-00; 8:45 am]

BILLING CODE 7590-01-P